DEPARTMENT OF TRANSPORTATION

Federal Aviation Administration

14 CFR Part 95

[Docket No. 30468; Amdt. No. 458]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

Effective Date: 0901 UTC, December 22, 2005.

FOR FURTHER INFORMATION CONTACT: Donald P. Pate, Flight Procedure Standards Branch (AMCAFS-420), Flight Technologies and Programs Division, Flight Standards Service, Federal Aviation Administration, Mike Monroney Aeronautical Center, 6500 South MacArthur Blvd. Oklahoma City, OK 73169 (Mail Address: P.O. Box 25082 Oklahoma City, OK 73125) telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore (1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC on November 21, 2005.
James J. Ballough,
Director, Flight Standards Service.

Adoption of the Amendment

Accordingly, pursuant to the authority delegated to me by the Administrator, part 95 of the Federal Aviation Regulations (14 CFR part 95) is amended as follows effective at 0901 UTC, December 22, 2005.

1. The authority citation for part 95 continues to read as follows:

Authority: 49 U.S.C. 106(g), 40103, 40106, 40113, 40114, 40120, 44502, 44514, 44719, 44721.

2. Part 95 is amended to read as follows:

Revisions to IFR Altitudes and Changeover Points
[Amendment 458 effective date, December 22, 2005]
From | To | MEA
§ 95.1001 DIRECT ROUTES—U.S. COLOR ROUTES
§ 95.10 AMBER FEDERAL AIRWAY A5 IS ADDED TO READ
AMBLER, AK NDB/DME | EVANSVILLE, AK NDB | *7500
*6600-MOCA
§ 95.60 BLUE FEDERAL AIRWAY B1 IS ADDED TO READ
WOODY ISLAND, AK NDB | ILIAMNA, AK NDB/DME | *10000
*9100-MOCA

From | To | MEA | MAA
§ 95.4000 HIGH ALTITUDE RNAV ROUTES
§ 95.4002 RNAV ROUTE Q2 IS ADDED TO READ
BOILE, CA FIX | ITUCO, AZ FIX | #*24000 | 45000
*18000-GNSS MEA
#DME/DME/IRU MEA
ITUCO, AZ FIX | NEWMAN, TX VORTAC | #*26000 | 45000
*18000-GNSS MEA
#DME/DME/IRU MEA
§ 95.4004 RNAV ROUTE Q4 IS ADDED TO READ
BOILE, CA FIX | SKTTR, AZ FIX | #*24000 | 45000
*18000-GNSS MEA
#DME/DME/IRU MEA
SKTTR, AZ FIX | EL PASO, TX VORTAC | #*26000 | 45000
*18000-GNSS MEA
#DME/DME/IRU MEA
§ 95.4013 RNAV ROUTE Q13 IS AMENDED BY ADDING
PRFUM, AZ FIX | LEAHI, NV FIX | *18000 | 45000
*GNSS MEA
LEAHI, NV FIX | PAWLI, OR FIX | *18000 | 45000
*GNSS MEA
§ 95.4015 RNAV ROUTE Q15 IS ADDED TO READ
CHILY, AZ FIX | LOMIA, NV FIX | *18000 | 45000
*GNSS MEA
§ 95.4204 RNAV ROUTE T204 IS ADDED TO READ
TAYLOR, FL VORTAC | BRUNSWICK, GA VORTAC | 2100 | 15000
§ 95.4205 RNAV ROUTE T205 IS ADDED TO READ
OCALA, FL VORTAC | VALDOSTA, GA VOR/DME | *3000 | 15000
*2500-MOCA
§ 95.4207 RNAV ROUTE T207 IS ADDED TO READ
ORMOND BEACH, FL VORTAC | CARRA, FL FIX | 2300 | 15000
CARRA, FL FIX | MONIA, FL FIX | 1900 | 15000
MONIA, FL FIX | WAYCROSS, GA VORTAC | 2300 | 15000
§ 95.4208 RNAV ROUTE T208 IS ADDED TO READ
GATORS, FL VORTAC | CARRA, FL FIX | 2100 | 15000
CARRA, FL FIX | ORMOND BEACH, FL VORTAC | 2300 | 15000
§ 95.4211 RNAV ROUTE T211 IS ADDED TO READ
OCALA, FL VORTAC | JUTTS, FL FIX | 2500 | 15000
JUTTS, FL FIX | CARRA, FL FIX | 1900 | 15000
CARRA, FL FIX | CRAIG, FL VORTAC | 2100 | 15000
§ 95.4213 RNAV ROUTE T213 IS ADDED TO READ
LOUISVILLE, KY VORTAC | GAMKE, IN FIX | #3600 | 8000
#NORTHBOUND EXPECT 7000
#SOUTHBOUND EXPECT 6000
GAMKE, IN FIX | RICHMOND, IN VORTAC | #2800 | 8000
#NORTHBOUND EXPECT 7000
#SOUTHBOUND EXPECT 6000
§ 95.4215 RNAV ROUTE T215 IS ADDED TO READ
LEXINGTON, KY VORTAC | GAMKE, IN FIX | #3000 | 8000
#NORTHBOUND EXPECT 6000
#SOUTHBOUND EXPECT 5000
§ 95.4217 RNAV ROUTE T217 IS ADDED TO READ
LEXINGTON, KY VORTAC | BOSTR, OH FIX | #3000 | 8000
#NORTHBOUND EXPECT 7000
#SOUTHBOUND EXPECT 6000
BOSTR, OH FIX | HEDEN, OH FIX | #2700 | 8000
#NORTHBOUND EXPECT 7000
#SOUTHBOUND EXPECT 6000
HEDEN, OH FIX | SPRINGFIELD, OH VOR/DME | #2800 | 8000
#NORTHBOUND EXPECT 7000
#SOUTHBOUND EXPECT 6000
SPRINGFIELD, OH VOR/DME | BONEE, OH FIX | #2900 | 8000
#NORTHBOUND EXPECT 7000
#SOUTHBOUND EXPECT 6000

From | To | MEA
§ 95.6001 VICTOR ROUTES—U.S.
§ 95.6019 VOR FEDERAL AIRWAY V19 IS ADDED TO READ
CINCINNATI, KY VORTAC | APPLETON, OH VORTAC | *4000
*2800-MOCA
§ 95.6343 VOR FEDERAL AIRWAY V343 IS AMENDED BY ADDING
BOZEMAN, MT VOR/DME | THESE, MT FIX | 8000
THESE, MT FIX | SUZZY, MT FIX |
E BND |  | 8300
W BND |  | 10800
SUZZY, MT FIX | EVVER, MT FIX | 11000
§ 95.6536 VOR FEDERAL AIRWAY V536 IS AMENDED TO READ IN PART
SWEDD, MT FIX | *MENAR, MT FIX | **9700
*9200-MCA MENAR, MT FIX, NW BND
**9100-MOCA

[FR Doc. 05-23479 Filed 11-29-05; 8:45 am]

BILLING CODE 4910-13-P